DEPARTMENT OF THE INTERIOR

Fish and Wildlife Service

[Docket No. FWS-R6-ES-2020-0120; FF06E24000-212-FXES11140600000]

Incidental Take Permit Application; Habitat Conservation Plan and Categorical Exclusion for the Gunnison Sage-Grouse; Gunnison County, Colorado

AGENCY: Fish and Wildlife Service, Interior.

ACTION: Notice of availability of documents; request for comments.

SUMMARY: We, the U.S. Fish and Wildlife Service, announce the availability of documents related to an application for an incidental take permit (permit) under the Endangered Species Act. The City of Gunnison, Colorado, has applied for a permit, which, if granted, would authorize take of the federally threatened Gunnison sage-grouse that is likely to occur incidental to proposed residential and commercial development. The documents available for review and comment are the applicant's habitat conservation plan, which is part of the permit application, and our draft environmental action statement and low-effect screening form, which support a categorical exclusion under the National Environmental Policy Act. We invite comments from the public and Federal, Tribal, State, and local governments.

DATES: We will accept comments received or postmarked on or before June 7, 2021. Comments submitted online at Regulations.gov (see ADDRESSES) must be received by 11:59 p.m. Eastern Time on the closing date.

ADDRESSES: Obtaining Documents: The documents this notice announces, as well as any comments and other materials that we receive, will be available for public inspection online in Docket No. FWS-R6-ES-2020-0120 at http://www.regulations.gov.

Submitting Comments: You may submit comments by one of the following methods:

• Online: http://www.regulations.gov. Follow the instructions for submitting comments on Docket No. FWS-R6-ES-2020-0120.

• U.S. mail: Public Comments Processing, Attn: Docket No. FWS-R6-ES-2020-0120; U.S. Fish and Wildlife Service Headquarters, MS: PRB/3W; 5275 Leesburg Pike, Falls Church, VA 22041-3803.

We request that you send comments by only one of the methods described above.

FOR FURTHER INFORMATION CONTACT: Terry Ireland, by phone at 970-628-7188, by email at Terry_Ireland@fws.gov, or via the Federal Relay Service at 800-877-8339.

SUPPLEMENTARY INFORMATION: We, the U.S. Fish and Wildlife Service (Service), have received an application from the City of Gunnison for a 20-year incidental take permit (permit) under the Endangered Species Act of 1973, as amended (ESA; 16 U.S.C. 1531 et seq.). The application addresses the potential for take of the federally threatened Gunnison sage-grouse (Centrocercus minimus) that is likely to occur incidental to proposed residential and commercial development.

The documents available for review and comment are the applicant's habitat conservation plan (HCP), which is part of the permit application, and our draft environmental action statement and low-effect screening form. These documents helped inform our conclusion that the activities proposed by the permit application will have a low effect on the species and the human environment. Accordingly, our issuance of a permit qualifies for a categorical exclusion under the National Environmental Policy Act of 1969 (NEPA; 42 U.S.C. 4321 et seq.).

Applicant's Habitat Conservation Plan

The City of Gunnison has submitted a low-effect HCP in support of an application for a permit to address take of the species that is likely to occur as the result of proposed residential and commercial development (covered activities) of approximately 637 acres (ac) in Gunnison County, Colorado. The covered activities are anticipated to affect 597 ac of Gunnison sage-grouse habitat. The requested permit duration is for 20 years from permit issuance. The covered activities are within Gunnison sage-grouse habitat in the Gunnison Basin population. The biological goals and objectives are to maintain higher quality and more productive Gunnison sage-grouse habitat within the Gunnison Basin population and minimize impacts from development on the Gunnison sage-grouse. The proposed mitigation and minimization measures include protection of approximately 885 ac of Gunnison sage-grouse habitat, reduction of impacts from grazing, reduction of disturbance from construction and recreation via seasonal restrictions, and the creation and distribution of educational materials and signage to reduce impacts.

Public Availability of Comments

Written comments we receive become part of the decision file associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA (16 U.S.C. 1531 et seq.) and its implementing regulations (50 CFR 17.32) and under NEPA (42 U.S.C. 4321 et seq.) and its implementing regulations (40 CFR 1506.6 and 43 CFR 46.305).

Stephen Small,
Assistant Regional Director, Ecological Services, U.S. Fish and Wildlife Service, Interior Regions 5 and 7.

[FR Doc. 2021-09651 Filed 5-6-21; 8:45 am]

BILLING CODE 4333-15-P